DEPARTMENT OF TRANSPORTATION

Federal Aviation Administration

Thirtieth Meeting: RTCA Special Committee 206, Aeronautical Information and Meteorological Data Link Services

AGENCY: Federal Aviation Administration (FAA), U.S. Department of Transportation (DOT).

ACTION: Meeting Notice of RTCA Special Committee 206, Aeronautical Information and Meteorological Data Link Services.

SUMMARY: The FAA is issuing this notice to advise the public of the thirtieth meeting of RTCA Special Committee 206, Aeronautical Information and Meteorological Data Link Services.

DATES: The meeting will be held June 11-15, 2012, from 8:30 a.m.-4:00 p.m.

ADDRESSES: The meeting will be held at FAA William J. Hughes Technical Center, Atlantic City, NJ, 08405. Contact Tom Helms by telephone at (202) 747-4396 or email Helms@avmet.com.

FOR FURTHER INFORMATION CONTACT: The RTCA Secretariat, 1150 18th Street NW., Suite 910, Washington, DC, 20036, or by telephone at (202) 833-9339, fax at (202) 833-9434, or Web site at http://www.rtca.org.

SUPPLEMENTARY INFORMATION: Pursuant to section 10(a) (2) of the Federal Advisory Committee Act (Pub. L. 92-463, 5 U.S.C., App.), notice is hereby given for a meeting of Special Committee 206. The agenda will include the following:

June 11, 2012

11 June—Monday

8:30 a.m.

• Opening Plenary

• Chairmen's remarks and host's comments

• Introductions

• Approval of previous meeting minutes

• Review and approve meeting agenda

• Action item review

• RTCA Workspace Update

• Discussion on setting up the MASPS Sub-Group (#4) and a preliminary roadmap

• SG1 report

• SG2 report

• SG3 report

• SAE G-10 AI ARP Briefing to SC-206 Plenary

12:30 p.m. Review ConUse Changes

12 June—Tuesday

08:30 a.m.

• SG1, SG2, and SG3 meetings

13 June—Wednesday

08:30 a.m.

• SG1, SG2, and SG3 meetings

02:00 p.m.

• SG1, SG2, and SG3 meetings or demonstration tour(s)

14 June-Thursday

08:30 a.m.

• SG1, SG2, and SG3 meetings

02:00 p.m.

• SG1, SG2, and SG3 meetings or demonstration tour(s)

15 June—Friday

08:30 a.m.

• Closing Plenary

• SG1 report

• SG2 report

• Decision to approve the ConUse document for release to the PMC

• SG3 report

• PMC decision on TOR revision

• Action item review

• Future meeting plans and dates

• Other business

01:00 p.m.

• Adjourn (no lunch break)

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on May 17, 2012.
John Raper,
Manager, Business Operations Branch, Federal Aviation Administration.

[FR Doc. 2012-12553 Filed 5-22-12; 8:45 am]

BILLING CODE 4910-13-P